DEPARTMENT OF VETERANS AFFAIRS

[OMB Control No. 2900-0747]

Proposed Information Collection (Fully Developed Claim (Fully Developed Claims—Applications for Compensation, Pension, DIC, Death Pension, and/or Accrued Benefits)) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection and allow 60 days for public comment in response to the notice. This notice solicits comments on information needed to process compensation and pension claims within 90 days after receipt of the claim.

DATES: Written comments and recommendations on the proposed collection of information should be received on or before August 15, 2011.

ADDRESSES: Submit written comments on the collection of information through the Federal Docket Management System (FDMS) at http://www.Regulations.gov; or to Nancy J. Kessinger, Veterans Benefits Administration (20M35), Department of Veterans Affairs, 810 Vermont Avenue, NW., Washington, DC 20420; or e-mail nancy.kessinger@va.gov. Please refer to “OMB Control No. 2900-0747” in any correspondence. During the comment period, comments may be viewed online at FDMS.

FOR FURTHER INFORMATION CONTACT: Nancy J. Kessinger at (202) 461-9769 or Fax (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Fully Developed Claim (Fully Developed Claims—Applications for Compensation, Pension, DIC, Death Pension, and/or Accrued Benefits, VA Forms 21-526EZ, 21-527EZ and 21-534EZ.

OMB Control Number: 2900-0747.

Type of Review: Revision of a currently approved collection.

Abstract: VA Forms 21-526EZ, 21-527EZ and 21-534EZ will used to process a claim within 90 days after receipt from a claimant or their representative. Claimants or their representative are required to sign and date the certification, certifying as of the signed date, no additional information or evidence is available or needs to be submitted in order to adjudicate the claim.

Affected Public: Individuals and Households.

Estimated Annual Burden: 43,516 hours.

Estimated Average Burden per Respondent: 25 minutes.

Frequency of Response: On occasion.

Estimated Number of Respondents: 104,440.

By direction of the Secretary.
Denise McLamb,
Program Analyst, Enterprise Records Service.

[FR Doc. 2011-14760 Filed 6-14-11; 8:45 am]

BILLING CODE 8320-01-P